DEPARTMENT OF HOMELAND SECURITY

U.S. Customs and Border Protection

Approval of American Cargo Assurance, as a Commercial Gauger

AGENCY: U.S. Customs and Border Protection, Department of Homeland Security.

ACTION: Notice of approval of American Cargo Assurance, as a commercial gauger.

SUMMARY: Notice is hereby given, pursuant to CBP regulations, that American Cargo Assurance, has been approved to gauge petroleum and petroleum products for customs purposes for the next three years as of August 29, 2013.

DATES: Effective Dates: The approval of American Cargo Assurance, as commercial gauger became effective on August 29, 2013. The next triennial inspection date will be scheduled for August 2016.

FOR FURTHER INFORMATION CONTACT: Approved Gauger and Accredited Laboratories Manager, Laboratories and Scientific Services, U.S. Customs and Border Protection, 1300 Pennsylvania Avenue NW., Suite 1500N, Washington, DC 20229, tel. 202-344-1060.

SUPPLEMENTARY INFORMATION: Notice is hereby given pursuant to 19 CFR 151.13, that American Cargo Assurance, 1404-B South Houston Road, Pasadena, TX 77502, has been approved to gauge petroleum and certain petroleum products for customs purposes, in accordance with the provisions of 19 CFR 151.13. American Cargo Assurance is approved for the following gauging procedures for petroleum and certain petroleum products from the American Petroleum Institute (API):

API chapters | Title
3 | Tank gauging.
7 | Temperature determination.
8 | Sampling.
12 | Calculations.
17 | Maritime measurement.

Anyone wishing to employ this entity to conduct gauger services should request and receive written assurances from the entity that it is approved by the U.S. Customs and Border Protection to conduct the specific gauger service requested. Alternatively, inquiries regarding the specific gauger service this entity is approved to perform may be directed to the U.S. Customs and Border Protection by calling (202) 344-1060. The inquiry may also be sent to cbp.labhq@dhs.gov. Please reference the Web site listed below for a complete listing of CBP approved gaugers and accredited laboratories.

http://cbp.gov/linkhandler/cgov/trade/basic_trade/labs_scientific_svcs/commercial_gaugers/gaulist.ctt/gaulist.pdf.

Dated: January 27, 2014.
Ira S. Reese,
Executive Director, Laboratories and Scientific Services.

[FR Doc. 2014-02792 Filed 2-7-14; 8:45 am]

BILLING CODE 9111-14-P